DEPARTMENT OF ENERGY

Federal Energy Regulatory Commission

Combined Notice of Filings #1

Take notice that the Commission received the following exempt wholesale generator filings:

Docket Numbers: EG24-130-000.

Applicants: Al Pastor BESS LLC.

Description: Al Pastor BESS LLC submits Notice of Self-Certification of Exempt Wholesale Generator Status.

Filed Date: 3/13/24.

Accession Number: 20240313-5218.

Comment Date: 5 p.m. ET 4/3/24.

Docket Numbers: EG24-131-000.

Applicants: Citadel BESS LLC.

Description: Citadel BESS LLC submits Notice of Self-Certification of Exempt Wholesale Generator Status.

Filed Date: 3/13/24.

Accession Number: 20240313-5219.

Comment Date: 5 p.m. ET 4/3/24.

Docket Numbers: EG24-132-000.

Applicants: SMT Ironman BESS LLC.

Description: SMT Ironman BESS LLC submits Notice of Self-Certification of Exempt Wholesale Generator Status.

Filed Date: 3/13/24.

Accession Number: 20240313-5220.

Comment Date: 5 p.m. ET 4/3/24.

Docket Numbers: EG24-133-000.

Applicants: Widgeon Whistle BESS LLC.

Description: Widgeon Whistle BESS LLC submits Notice of Self-Certification of Exempt Wholesale Generator Status.

Filed Date: 3/13/24.

Accession Number: 20240313-5221.

Comment Date: 5 p.m. ET 4/3/24.

Take notice that the Commission received the following electric rate filings:

Docket Numbers: ER23-2663-002.

Applicants: PJM Interconnection, L.L.C.

Description: Tariff Amendment: Amendment to Filing, Original ISA, SA No. 7038 to be effective 7/21/2023.

Filed Date: 3/14/24.

Accession Number: 20240314-5141.

Comment Date: 5 p.m. ET 4/4/24.

Docket Numbers: ER24-796-002.

Applicants: Entergy Texas, Inc.

Description: Tariff Amendment: ETI-ETEC Second Revised LBA Agreement to be effective 2/27/2024.

Filed Date: 3/14/24.

Accession Number: 20240314-5073.

Comment Date: 5 p.m. ET 4/4/24.

Docket Numbers: ER24-1215-001.

Applicants: PJM Interconnection, L.L.C.

Description: Tariff Amendment: Amendment to ISA, SA No. 1442; Queue No. NQ-123 (amend) Errata Filing to be effective 4/9/2024.

Filed Date: 3/14/24.

Accession Number: 20240314-5037.

Comment Date: 5 p.m. ET 4/4/24.

Docket Numbers: ER24-1482-000.

Applicants: Michigan Electric Transmission Company, LLC.

Description: Application for Authorization for Abandoned Plant Incentive Rate Treatment of Michigan Electric Transmission Company, LLC.

Filed Date: 3/13/24.

Accession Number: 20240313-5232.

Comment Date: 5 p.m. ET 4/3/24.

Docket Numbers: ER24-1483-000.

Applicants: American Transmission Systems, Incorporated, PJM Interconnection, L.L.C.

Description: § 205(d) Rate Filing: American Transmission Systems, Incorporated submits tariff filing per 35.13(a)(2)(iii: ATSI submits one Construction Agreement, SA No. 6934 to be effective 5/14/2024.

Filed Date: 3/14/24.

Accession Number: 20240314-5033.

Comment Date: 5 p.m. ET 4/4/24.

Docket Numbers: ER24-1489-000.

Applicants: Cheyenne Light, Fuel and Power Company.

Description: § 205(d) Rate Filing: Filing of Construction, Operation and Maintenance Agreement to be effective 2/15/2024.

Filed Date: 3/14/24.

Accession Number: 20240314-5121.

Comment Date: 5 p.m. ET 4/4/24.

Docket Numbers: ER24-1490-000.

Applicants: PJM Interconnection, L.L.C.

Description: § 205(d) Rate Filing: Amended ISA; Service Agreement No. 6278; AD2-048 to be effective 5/14/2024.

Filed Date: 3/14/24.

Accession Number: 20240314-5131.

Comment Date: 5 p.m. ET 4/4/24.

Docket Numbers: ER24-1495-000.

Applicants: AEP Texas Inc.

Description: § 205(d) Rate Filing: AEPTX-Taylor Electric Cooperative 2nd Amended TSA to be effective 2/22/2024.

Filed Date: 3/14/24.

Accession Number: 20240314-5139.

Comment Date: 5 p.m. ET 4/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 14, 2024.
Debbie-Anne A. Reese,
Acting Secretary.

[FR Doc. 2024-05887 Filed 3-19-24; 8:45 am]

BILLING CODE 6717-01-P